NATIONAL SCIENCE FOUNDATION

Sunshine Act; Meeting

AGENCY HOLDING MEETING: National Science Board; Programs and Plans Committee.

DATE AND TIME: September 13, 2005, 11:30 a.m.-12:30 p.m. (e.t.).

PLACE: National Science Foundation, 4201 Wilson Boulevard, Arlington, VA 22230, Public Meeting Room 110.

STATUS: This meeting will be open to the public.

MATTERS TO BE CONSIDERED:

Tuesday, September 13, 2005, Open Session.

Open Session (11:30 a.m. to 12:30 p.m.)

• Review of NSF Draft Cyberinfrastructure Document.

• Open Discussion and Comments.

FOR FURTHER INFORMATION CONTACT: Dr. Michael P. Crosby, Executive Officer and NSB Office Director, (703) 292-7000, http://www.nsf.gov/nsb.

Michael P. Crosby,
Executive Officer and NSB Office Director.

[FR Doc. 05-17951 Filed 9-6-05; 3:46 pm]

BILLING CODE 7555-01-P